DEPARTMENT OF LABOR

Pension and Welfare Benefits Administration

Notice of Extension of the Comment Periods for Proposed Exemptions Affected by the Temporary Closure of the Mailroom at the Department of Labor

AGENCY: Pension and Welfare Benefits Administration, U.S. Department of Labor (the Department).

ACTION: Notice of Extension of Comment Periods.

SUMMARY: As a result of the recent anthrax scare, the Department's mailroom was closed between October 22, 2001 and November 26, 2001 in order that protective measures could be taken to ensure the appropriate handling of the mail as well as the general safety of the Department's employees. However, during this time frame, the following proposed individual and class exemptions were published in the Federal Register and requested comments from interested persons:

Case No. | FR Citation | Date | Plan/Entity Name
D-10762 | 66 FR 46830 | 9/7/01 | Key Trust Company of Ohio.
D-10894 | 66 FR 46837 | 9/7/01 | Brookshire Brothers, Ltd.
D-10913, D-10914 | 66 FR 46839 | 9/7/01 | The Golden Comprehensive Security Program and The Golden Retirement Savings Program.
D-10954 | 66 FR 49400 | 9/27/01 | Metropolitan Life Insurance Company.
L-10937 | 66 FR 49415 | 9/27/01 | Ford Motor Company.
D-10997 | 66 FR 46843 | 9/7/01 | Exemption to Modify Prohibited Transaction Exemption 97-08 Involving Morgan Stanley Dean Witter & Co. Incorporated.
D-11034 | 66 FR 49703 | 9/28/01 | Proposed Amendment to Prohibited Transaction Exemption 80-26 for Certain Interest Free Loans to Employee Benefit Plans.

Because no written comments were received from interested persons while the mailroom was closed and the comment periods have since expired for these pendency notices, the Department is hereby extending the comment periods for the above referenced proposed exemptions until December 26, 2001. Therefore, all written comments and/or hearing requests should be sent by regular mail to the address specified in the proposals. Alternatively, interested persons may submit their comments and/or hearing requests by electronic mail to moffittb@pwba.dol.gov or by facsimile, (202) 219-0204.

FOR FURTHER INFORMATION CONTACT: Ms. Anna Mpras, U.S. Department of Labor, telephone (202) 693-8565. (This is not a toll-free number.)

Ivan L. Strasfeld,
Director of Exemption, Determinations, Pension and Welfare Benefits Administration, U.S. Department of Labor.

[FR Doc. 01-30757 Filed 12-11-01; 8:45 am]

BILLING CODE 4510-29-P